DEPARTMENT OF THE TREASURY

Alcohol and Tobacco Tax and Trade Bureau

27 CFR Part 9

[Docket No. TTB-2023-0002; Notice No. 221A; Re: Notice No. 221]

RIN 1513-AC78

Proposed Establishment of the Crystal Springs of Napa Valley Viticultural Area; Comment Period Extension

AGENCY: Alcohol and Tobacco Tax and Trade Bureau, Treasury.

ACTION: Notice of proposed rulemaking; extension of comment period.

SUMMARY: The Alcohol and Tobacco Tax and Trade Bureau (TTB) is extending, for an additional 60 days, the comment period for a notice of proposed rulemaking it published as Notice No. 221, entitled, “Proposed Establishment of the Crystal Springs of Napa Valley Viticultural Area.” TTB is taking this action in response to a request to extend the comment period from a wine industry trade association.

DATES: The comment period for the notice of proposed rulemaking, published at 88 FR 13072, on March 2, 2023, is extended. Comments on Notice No. 221 are now due to TTB on or before June 30, 2023.

ADDRESSES: You may electronically submit comments to TTB on Notice No. 221, and view copies of Notice No. 221, its supporting materials, this comment extension notice, and any comments TTB receives on Notice No. 221 within Docket No. TTB-2023-0002 as posted on the Regulations.gov website (https://www.regulations.gov), the Federal e-rulemaking portal. Please see the “Public Participation” section of this document below for full details on how to comment on Notice No. 221 via Regulations.gov or U.S. mail, and for full details on how to obtain copies of Notice No. 221, its supporting materials, this document, and any comments related to this proposal.

FOR FURTHER INFORMATION CONTACT: Karen A. Thornton, Regulations and Rulings Division, Alcohol and Tobacco Tax and Trade Bureau, 1310 G Street NW, Box 12, Washington, DC 20005; phone 202-453-1039, ext. 175.

SUPPLEMENTARY INFORMATION: On March, 2, 2023, the Alcohol and Tobacco Tax and Trade Bureau (TTB) published a notice of proposed rulemaking in the Federal Register entitled, “Proposed Establishment of the Crystal Springs of Napa Valley Viticultural Area.” See Notice No. 221 at 88 FR 13072. In that document, TTB proposed to establish the approximately 4,000-acre “Crystal Springs of Napa Valley” American viticultural area (AVA) in Napa County, California. The proposed AVA is located entirely within the existing Napa Valley AVA (27 CFR 9.23), which, in turn, is entirely within the existing North Coast AVA (27 CFR 9.30).

TTB published Notice No. 221 in response to a petition submitted on behalf of local vineyard owners and winemakers. Within the proposed AVA, there are approximately 30 commercial vineyards which cover a total of approximately 230 acres. The distinguishing feature of the proposed Crystal Springs of Napa Valley AVA is its topography. Further details concerning the proposed AVA are available in Notice No. 221. TTB designates viticultural areas to allow vintners to better describe the origin of their wines and to allow consumers to better identify wines they may purchase.

TTB recently received a request from the Napa Valley Vintners (NVV), a wine industry trade association, to extend the comment period for Notice No. 221 for an additional 90 days. In its request, NVV stated that in order to properly evaluate and respond to Notice No. 221, the group “needs further time to study and map all vineyards using the Crystal Springs designation in relationship to the boundaries of the proposed AVA and to report its findings to the NVV Napa Name Protection Committee, which reviews all nested AVAs, and then to the NVV Board of Directors.”

After reviewing the NVV request, TTB has decided to extend the comment period for Notice No. 221 for an additional 60 days. TTB believes that an additional 60 days is an adequate extension of the comment period. If needed, TTB will consider additional requests to extend the comment period as necessary for interested parties to evaluate the vineyards using the Crystal Springs designation. Therefore, TTB will now accept public comments on Notice No. 221 through June 30, 2023. See the Public Participation section of Notice No. 221 for details on how and where to submit comments.

Mary G. Ryan,
Administrator.

[FR Doc. 2023-09042 Filed 4-28-23; 4:15 pm]

BILLING CODE 4810-31-P